DEPARTMENT OF HEALTH AND HUMAN SERVICES

Centers for Disease Control and Prevention

[30 Day—10-10AP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Survey of Healthcare Workers' Health and Safety Practices—New—National Institute for Occupational Safety and Health (NIOSH), Centers for Disease Control and Prevention (CDC).

Background and Brief Description

The mission of the National Institute for Occupational Safety and Health (NIOSH) is to promote safety and health at work for all people through research and prevention. Under Public Law 91-596, Sections 20 and 22, Occupational Safety and Health Act of 1970, NIOSH has the responsibility to conduct research to advance the health and safety of workers. In this capacity, NIOSH will conduct a Web-based survey that will provide important hazard and exposure surveillance data that is currently unavailable for healthcare workers.

Healthcare workers represent over 8% of the U.S. workforce with many occupations projected to substantially grow in the next ten years. Healthcare workers experience higher rates of illness and injury as compared to workers in other industries and are at increased risk for many of the types of adverse health effects potentially caused by exposure to hazardous chemical agents. The proposed hazard surveillance survey will provide important information on work practices associated with the use of important classes of hazardous chemical agents including antineoplastic agents, anesthetic gases, aerosolized medications, chemical sterilants, high level disinfectants and surgical smoke. This voluntary survey is the first of its kind by the Federal government. The data collected will allow NIOSH to describe the range of health and safety practices and the types of exposure controls used by healthcare workers by hazard, occupation, and type and size of work setting. The study population for this survey includes members of 22 professional organizations who represent healthcare workers in many occupations which use or are exposed to these chemical agents. Each of the 22 participating professional organizations will be responsible for implementing the sampling approach developed by NIOSH and sending invitation and reminder emails to sampled members. The sample size for the survey is estimated to be 25,650 healthcare workers. NIOSH will use the data to guide interventions and future research. Participating professional organizations plan to use the data for benchmarking, identifying areas for expanding guidelines and for health and safety promotion.

The proposed survey is modular in design and will be only available on-line. The survey includes a screening module, separate chemical hazard modules addressing the previously mentioned hazardous chemical agents, and a core module which gathers information on a broad range of health and safety issues affecting healthcare workers. The web survey will present the modules to respondents in a seamless manner.

Depending on the size of the participating professional organization, all members or a random sample of members will be sent an email by their organization which will contain a link to the survey. Initially, respondents will complete a screening module which will determine whether they are eligible for the survey. The eligibility criteria is, they must have used or have come in contact with one or more of the hazardous chemical agents within the past week. If eligible, the respondent would complete the appropriate hazard module (e.g., oncology nurses would complete hazard module on administration of antineoplastic agents) and the core module. A second hazard module may also be completed if additional chemical agents were used in the past week. Respondents will not be asked to report their names or any other identifying information.

The project supports NIOSH's surveillance strategic goal which is to advance the usefulness of surveillance information for the prevention of occupational illnesses, injuries and hazards. Further, the goal seeks to actively promote the dissemination and use of NIOSH surveillance data and information.

Once the study is completed, results will be made available via various means including the NIOSH Internet site. NIOSH expects to complete data collection no later than spring of 2011. There is no cost to respondents other than their time. The total estimated annual burden hours are 11,140.

Estimated Annualized Burden Hours

Type of respondent | Activity or form name | Number of respondents | Number of responses per respondent | Avg. burden per response (in hours)
Professional Organization | Implement NIOSH sampling approach; send invitation and reminder emails to sampled members | 22 | 1 | 5
Healthcare Workers | Screening module | 25,650 | 1 | 1/60
| Primary hazard module | 20,520 | 1 | 10/60
| Core module | 20,520 | 1 | 20/60
| Secondary hazard module | 2,052 | 1 | 10/60

Dated: March 25, 2010.
Maryam I. Daneshvar,
Acting Reports Clearance Officer, Centers for Disease Control and Prevention.

[FR Doc. 2010-7369 Filed 3-31-10; 8:45 am]

BILLING CODE 4163-18-P